DEPARTMENT OF THE TREASURY

Submission for OMB review; comment request

May 25, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before July 2, 2001 to be assured of consideration.

U.S. CUSTOMS SERVICE (CUS)

OMB Number: 1515-0155.

Form Number: None.

Type of Review: Extension.

Title: Approval of Commercial Gaugers and Accreditation of Commercial Laboratories.

Description: The accreditation of commercial testing laboratories; approval of commercial gaugers are used by individuals or businesses desiring Customs approval to measure bulk products or analyze importations may apply to Customs by letter. This recognition is required of businesses wishing to perform such work on imported merchandise.

Respondents: Business or other for-profit, Not-for-profit institutions.

Estimated Number of Respondents: 250.

Estimated Burden Hours Per Respondent: 1 hour.

Frequency of Response: On occasion.

Estimated Total Reporting Burden: 250 hours.

Clearance Officer: J. Edgar Nichols (202) 927-1426 or Tracey Denning (202) 927-1429, U.S. Customs Service, Information Services Branch, Ronald Reagan Building 1300 Pennsylvania Avenue, NW., Room 3.2.C, Washington, DC 20229

OMB Reviewer: Alexander T. Hunt, (202) 395-7860, Office of Management and Budget, Room 10202, New Executive Office Building, Washington, DC 20503

Mary A. Able,
Departmental Reports Management Officer.

[FR Doc. 01-13722 Filed 5-31-01; 8:45 am]

BILLING CODE 4820-02-U